ENVIRONMENTAL PROTECTION AGENCY

[FRL-8276-5]

Proposed CERCLA Administrative Cost Recovery Settlement; Theta Properties, Inc.

AGENCY: Environmental Protection Agency.

ACTION: Notice; request for public comment.

SUMMARY: In accordance with Section 122(i) of the Comprehensive Environmental Response, Compensation, and Liability Act, as amended (“CERCLA”), 42 U.S.C. 9622(i), notice is hereby given of a proposed administrative settlement for recovery of past response costs concerning the Plantation Heat Treatment Superfund Site in North Providence, Rhode Island, with the following settling party: Theta Properties, Inc. The settlement requires the settling party to pay $175,000 to the Hazardous Substance Superfund. The settlement includes a covenant not to sue the settling party pursuant to Section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at EPA Records Center, 1 Congress Street, Suite 1100, Boston, Massachusetts.

DATES: Comments must be submitted on or before March 12, 2007.

ADDRESSES: The proposed settlement is available for public inspection at EPA Records Center, 1 Congress Street, Suite 1100, Boston, Massachusetts. A copy of the proposed settlement may be obtained from Sharon C. Fennelly, EPA Region 1, 1 Congress Street, Suite 1100 (HBR), Boston, Massachusetts 02114, 617 918-1263. Comments should refer to the Plantation Heat Treatment Superfund Site, North Providence, Rhode Island, and U.S. EPA Region 1 CERCLA Docket No. 01-2007-0040 and should be addressed to Sharon C. Fennelly.

FOR FURTHER INFORMATION CONTACT: Sharon C. Fennelly, EPA Region 1, 1 Congress Street, Suite 1100 (HBR), Boston, Massachusetts 02114, 617 918-1263.

Dated: January 18, 2007.
Rich Cavagnero,
Acting Director, Office of Site Remediation and Restoration, EPA Region 1.

[FR Doc. E7-2182 Filed 2-8-07; 8:45 am]

BILLING CODE 6560-50-P